DEPARTMENT OF TRANSPORTATION

Federal Aviation Administration

14 CFR Part 97

[Docket No. 31481; Amdt. No. 4055]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 25, 2023. The compliance date for each SIAP, associated Takeoff Minimums, and ODP is specified in the amendatory provisions.

The incorporation by reference of certain publications listed in the regulations is approved by the Director of the Federal Register as of April 25, 2023.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Information Services, 6500 South MacArthur Blvd., Oklahoma City, OK 73169 or,

4. The National Archives and Records Administration (NARA). For information on the availability of this material at NARA, email fr.inspection@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone (405) 954-1139.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for Part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

Lists of Subjects in 14 CFR Part 97

Air Traffic Control, Airports, Incorporation by reference, Navigation (Air).

Issued in Washington, DC, on March 31, 2023.
Thomas J. Nichols,
Manager, Aviation Safety, Flight Standards Service, Standards Section, Flight Procedures & Airspace Group, Flight Technologies & Procedures Division.

Adoption of the Amendment

Accordingly, pursuant to the authority delegated to me, 14 CFR part 97 is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 18 May 2023

Topeka, KS, KFOE, ILS OR LOC RWY 31, Amdt 10B

Manistee, MI, KMBL, Takeoff Minimums and Obstacle DP, Amdt 8

Albemarle, NC, KVUJ, Takeoff Minimums and Obstacle DP, Amdt 1A

Effective 15 June 2023

Juneau, AK, PAJN, LDA X RWY 8, Amdt 12E

Juneau, AK, PAJN, RNAV (GPS) V RWY 8, Amdt 2C

Clayton, AL, 11A, RNAV (GPS) RWY 10, Orig-E

Clayton, AL, 11A, RNAV (GPS) RWY 28, Amdt 1D

Clayton, AL, 11A, Takeoff Minimums and Obstacle DP, Amdt 3

Phoenix, AZ, KPHX, RNAV (RNP) Z RWY 7L, Orig-D, CANCELED

Phoenix, AZ, KPHX, RNAV (RNP) Z RWY 7R, Orig-D, CANCELED

Phoenix, AZ, KPHX, RNAV (RNP) Z RWY 8, Orig-C, CANCELED

Phoenix, AZ, KPHX, RNAV (RNP) Z RWY 25L, Orig-C, CANCELED

Phoenix, AZ, KPHX, RNAV (RNP) Z RWY 25R, Orig-C, CANCELED

Phoenix, AZ, KPHX, RNAV (RNP) Z RWY 26, Orig-C, CANCELED

Sedona, AZ, KSEZ, BYTER ONE, Graphic DP

Sedona, AZ, KSEZ, OATES ONE, Graphic DP, CANCELED

Sedona, AZ, KSEZ, RNAV (GPS) RWY 3, Amdt 1

Sedona, AZ, KSEZ, Takeoff Minimums and Obstacle DP, Amdt 2

Sacramento, CA, KMHR, ILS Y OR LOC Y RWY 22L, Orig

Sacramento, CA, KMHR, ILS Z OR LOC Z RWY 22L, ILS Z RWY 22L (SA CAT I), ILS Z RWY 22L (SA CAT II), Amdt 8

Santa Monica, CA, KSMO, Takeoff Minimums and Obstacle DP, Amdt 7A

Santa Monica, CA, KSMO, TOPANGA THREE, Graphic DP

Palatka, FL, 28J, Takeoff Minimums and Obstacle DP, Amdt 1

Brunswick, GA, KBQK, ILS OR LOC RWY 7, Amdt 10C

Keokuk, IA, KEOK, RNAV (GPS) RWY 8, Orig-D

Keokuk, IA, KEOK, RNAV (GPS) RWY 32, Orig-D

Macomb, IL, KMQB, RNAV (GPS) RWY 9, Amdt 1E

Mount Sterling, IL, I63, VOR/DME-A, Amdt 1A, CANCELED

Pittsfield, IL, KPPQ, VOR RWY 13, Amdt 4B, CANCELED

Quincy, IL, KUIN, ILS OR LOC RWY 4, Amdt 18

Quincy, IL, KUIN, LOC BC RWY 22, Amdt 7

Quincy, IL, KUIN, NDB RWY 4, Amdt 18

Quincy, IL, KUIN, RNAV (GPS) RWY 18, Orig-A, CANCELED

Quincy, IL, KUIN, RNAV (GPS) RWY 22, Amdt 1

Quincy, IL, KUIN, RNAV (GPS) RWY 36, Orig-A, CANCELED

Williamsburg, KY, KBYL, VOR RWY 20, Orig-F, CANCELED

Elkton, MD, 58M, VOR/DME-A, Orig, CANCELED

Princeton, ME, KPNN, RNAV (GPS) RWY 33, Orig

Rangeley, ME, 8B0, RNAV (GPS) RWY 32, Orig-A

Sault STE Marie, MI, KCIU, ILS OR LOC RWY 16, Amdt 8G

Hannibal, MO, KHAE, VOR/DME-A, Amdt 4A, CANCELED

Monroe City, MO, K52, RNAV (GPS) RWY 9, Orig-C

Monroe City, MO, K52, RNAV (GPS) RWY 27, Orig-C

Monroe City, MO, K52, VOR-A, Amdt 2A, CANCELED

Monticello, MO, 6M6, VOR/DME-A, Amdt 1, CANCELED

Charlotte, NC, KCLT, ILS OR LOC RWY 5, Amdt 38B, CANCELED

Charlotte, NC, KCLT, ILS OR LOC RWY 23, Amdt 3E, CANCELED

Charlotte, NC, KCLT, RNAV (GPS) Y RWY 5, Amdt 3C, CANCELED

Charlotte, NC, KCLT, RNAV (GPS) Y RWY 23, Amdt 1B, CANCELED

Charlotte, NC, KCLT, RNAV (RNP) Z RWY 5, Orig-B, CANCELED

Charlotte, NC, KCLT, RNAV (RNP) Z RWY 23, Orig-A, CANCELED

Devils Lake, ND, KDVL, VOR RWY 3, Orig-C, CANCELED

Devils Lake, ND, KDVL, VOR RWY 13, Amdt 1B, CANCELED

Devils Lake, ND, KDVL, VOR RWY 31, Amdt 1B, CANCELED

Central City, NE, 07K, RNAV (GPS) RWY 16, Orig-B

Farmington, NM, KFMN, VOR RWY 25, Orig

Dansville, NY, KDSV, Takeoff Minimums and Obstacle DP, Amdt 3

Astoria, OR, KAST, VOR RWY 8, Amdt 12C

Madras, OR, S33, RNAV (GPS) RWY 34, Amdt 1

Charleston, SC, KCHS, VOR OR TACAN RWY 15, Amdt 14B

Orangeburg, SC, KOGB, RNAV (GPS) RWY 5, Amdt 2

Orangeburg, SC, KOGB, RNAV (GPS) RWY 23, Amdt 2

Orangeburg, SC, KOGB, RNAV (GPS) RWY 35, Amdt 2

Summerville, SC, KDYB, NDB RWY 6, Amdt 1C

Belle Fourche, SD, KEFC, Takeoff Minimums and Obstacle DP, Amdt 3

Athens, TN, KMMI, RNAV (GPS) RWY 2, Orig-E

Athens, TN, KMMI, RNAV (GPS) RWY 20, Amdt 1E

Crossville, TN, KCSV, RNAV (GPS) RWY 26, Orig-C

Jasper, TN, KAPT, RNAV (GPS) RWY 4, Orig-C

Carthage, TX, 4F2, NDB RWY 35, Amdt 2B, CANCELED

College Station, TX, KCLL, VOR OR TACAN RWY 11, Amdt 19F

Van Horn, TX, KVHN, JURDU ONE, Graphic DP, CANCELED

Van Horn, TX, KVHN, Takeoff Minimums and Obstacle DP, Amdt 2

Charlottesville, VA, KCHO, RNAV (GPS) Y RWY 21, Amdt 3

Newport, VT, KEFK, RNAV (GPS) RWY 36, Amdt 2

Newport, VT, KEFK, Takeoff Minimums and Obstacle DP, Amdt 4

Deer Park, WA, KDEW, Takeoff Minimums and Obstacle DP, Amdt 1A

Seattle, WA, KBFI, RNAV (GPS) Y RWY 14R, Amdt 1A, CANCELED

Seattle, WA, KBFI, RNAV (RNP) Z RWY 14R, Amdt 1A, CANCELED

Spokane, WA, KSFF, ILS OR LOC RWY 22R, Amdt 1E

Spokane, WA, KSFF, MANITO ONE, Graphic DP

Spokane, WA, KSFF, Takeoff Minimums and Obstacle DP, Amdt 7

Spokane, WA, KSFF, VOR RWY 4L, Amdt 6B

Charleston, WV, KCRW, RNAV (RNP) Z RWY 5, Amdt 2A

Huntington, WV, KHTS, ILS OR LOC RWY 30, Amdt 10

Huntington, WV, KHTS, RNAV (GPS) RWY 30, Amdt 3

Petersburg, WV, W99, RNAV (GPS)-C, Orig-A

Petersburg, WV, W99, RNAV (GPS) Y RWY 31, Orig-C

Petersburg, WV, W99, RNAV (GPS) Z RWY 31, Orig-C

Petersburg, WV, W99, VOR/DME-A, Amdt 2D

Big Piney, WY, KBPI, RNAV (GPS) RWY 31, Amdt 1

Big Piney, WY, KBPI, Takeoff Minimums and Obstacle DP, Amdt 1

Big Piney, WY, KBPI, VOR RWY 31, Amdt 4

Pinedale, WY, KPNA, NDB-A, Orig-B, CANCELED

Pinedale, WY, KPNA, Takeoff Minimums and Obstacle DP, Amdt 3

[FR Doc. 2023-08688 Filed 4-24-23; 8:45 am]

BILLING CODE 4910-13-P